DEPARTMENT OF THE INTERIOR

Bureau of Land Management

[AZ-030-1430 EU; AZA-32183]

Notice of Realty Action, Direct Sale of Public Lands in Mohave County, AZ

AGENCY: Bureau of Land Management, Interior.

ACTION: Notice of realty action, direct sale.

SUMMARY: The following public lands have been found suitable for a direct sale under the authority of section (203) (206) of the Federal Land Policy and Management Act of 1976 (90 Stat. 2750; 43 U.S.C. 1713), at not less than the estimated fair market value of $2,750.00. The land will not be offered for sale for at least 30 days after the date of this notice. The following described lands are hereby classified for disposal by Direct Sale:

T. 24 N., R. 13 W., Gila and Salt River Meridian, Arizona; Section 34, E½E½NE¼SE¼NW¼, Consisting of 2.5 acres.

The land described above is hereby segregated from appropriation under the public land laws including the mining laws.

This land will be offered to Sam Robinson the adjacent private landowner that had his house built on public land, and must be for not less than the appraised value specified above.

The private landowner will make an application for conveyance of those mineral interests offered under the authority of section 209(b) of the Federal Land Policy and Management Act of 1976 (90 Stat. 2757; 43 U.S.C. 1719). A nonrefundable fee of $50 will be required from the private landowner for purchase of the mineral interests. Those mineral interests to be conveyed simultaneously with the sale of the land have been determined to have no known mineral value.

The conveyance document, when issued, will contain certain reservations to the United States and will be subject to any existing rights-of-way and any other valid existing rights.

On March 6, 2001, a notice was published in the Federal Register, volume 66, number 44, page 13566-13567, and the acreage figure was in error. The notice that was published on March 6, 2001, in the Federal Register had a 45-day comment period and stated that in the absence of timely objections, this proposal shall become the final determination of the Department of the Interior.

Our office did not receive any comments and/or objections; therefore, a direct sale to resolve the trespass will proceed.

Dated: July 15, 2004.
Bonnie Winslow,
Acting Field Manager, Kingman Field Office.

[FR Doc. 04-23593 Filed 10-20-04; 8:45 am]

BILLING CODE 4310-32-P